ENVIRONMENTAL PROTECTION AGENCY

[EPA-HQ-OPP-2014-0829; FRL-9919-22]

Pesticide Program Dialogue Committee; Notice of Public Meeting

AGENCY: Environmental Protection Agency (EPA).

ACTION: Notice.

SUMMARY: Pursuant to the Federal Advisory Committee Act (FACA), EPA's Office of Pesticide Programs (OPP) is announcing a public meeting of the Pesticide Program Dialogue Committee (PPDC) on December 11-12, 2014. In addition, EPA is also announcing meetings on December 10, 2014, of the following PPDC workgroups: The Work Group on Integrated Pest Management and the Work Group on Pollinator Protection. These meetings provide advice and recommendations to the EPA Administrator on issues associated with pesticide regulatory development and reform initiatives, evolving public policy and program implementation issues, and science issues associated with evaluating and reducing risks from use of pesticides.

DATES: Meeting: The PPDC meeting will be held on Thursday, December 11, 2014, from 9 a.m. to 5 p.m., and Friday, December 12, 2014, from 9 a.m. to noon.

Work group meetings: On Wednesday, December 10, 2014, PPDC work group meetings are scheduled as follows: The Work Group on Integrated Pest Management, from 9 a.m. to 11:30 a.m., and the Work Group on Pollinator Protection, from 1 p.m. to 4 p.m.

14P-0253

Agenda: A draft agenda will be posted on or before December 2, 2014.

Accommodations requests: To request accommodation of a disability, please contact the person listed under FOR FURTHER INFORMATON CONTACT, preferably at least 10 days prior to the meeting, to give EPA as much time as possible to process your request.

ADDRESSES: The PPDC meeting and both PPDC Work Group meetings will be held at 1 Potomac Yard South, 2777 S. Crystal Dr., Arlington, VA, in the lobby-level Conference Center.

EPA's Potomac Yard South Bldg. is approximately 1 mile from the Crystal City Metro Station.

FOR FURTHER INFORMATION CONTACT: Margie Fehrenbach, Office of Pesticide Programs (7501P), Environmental Protection Agency, 1200 Pennsylvania Ave. NW., Washington, DC 20460-0001; telephone number: (703) 308-4775; email address: fehrenbach.margie@epa.gov.

SUPPLEMENTARY INFORMATION:

I. General Information

A. Does this action apply to me?

You may be potentially affected by this action if you work in in agricultural settings or if you are concerned about implementation of the Federal Insecticide, Fungicide, and Rodenticide Act (FIFRA); the Federal Food, Drug, and Cosmetic Act (FFDCA); and the amendments to both of these major pesticide laws by the Food Quality Protection Act (FQPA); the Pesticide Registration Improvement Act (PRIA); and the Endangered Species Act (ESA). Potentially affected entities may include, but are not limited to: Agricultural workers and farmers; pesticide industry and trade associations; environmental, consumer, and farm worker groups; pesticide users and growers; animal rights groups; pest consultants; State, local, and tribal governments; academia; public health organizations; and the public. If you have questions regarding the applicability of this action to a particular entity, contact the person listed under FOR FURTHER INFORMATION CONTACT.

B. How can I get copies of this document and other related information?

The docket for this action, identified by docket identification (ID) number EPA-HQ-OPP-2014-0829, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

OPP is entrusted with responsibility to help ensure the safety of the American food supply, the education and protection from unreasonable risk of those who apply or are exposed to pesticides occupationally or through use of products, and general protection of the environment and special ecosystems from potential risks posed by pesticides.

The charter for EPA's PPDC was established under FACA, Public Law 92-463 (5 U.S.C. Appendix), in September 1995, and has been renewed every 2 years since that time. PPDC's charter was renewed October 25, 2013, for another 2-year period. The purpose of PPDC is to provide advice and recommendations to the EPA Administrator on issues associated with pesticide regulatory development and reform initiatives, evolving public policy and program implementation issues, and science issues associated with evaluating and reducing risks from use of pesticides. It is determined that PPDC is in the public interest in connection with the performance of duties imposed on the Agency by law. The following sectors are represented on the current PPDC: Environmental/public interest and animal rights groups; farm worker organizations; pesticide industry and trade associations; pesticide user, grower, and commodity groups; Federal and State/local/tribal governments; the general public; academia; and public health organizations.

Copies of the PPDC charter are filed with appropriate committees of Congress and the Library of Congress and are available upon request.

III. How can I request to participate in this meeting?

PPDC meetings are free, open to the public, and no advance registration required. Public comments may be made during the public comment session of each meeting or in writing to the person listed under FOR FURTHER INFORMATION CONTACT.

Authority: 7 U.S.C. 136 et seq.

Dated: November 13, 2014.
Jack S. Housenger,
Director, Office of Pesticide Programs.

[FR Doc. 2014-27635 Filed 11-20-14; 8:45 am]

BILLING CODE 6560-50-P